DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer on (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Data Collection Worksheet Form (DCW): Reinstatement—(OMB No. 0915-0226)

The Data Collection Worksheet Form for the National Health Service Corps Scholarship Program enables the Division of Applications and Awards/Scholarship Branch (DAA/SB) within the Health Resources and Services Administration (HRSA) to obtain the costs charged by each health professions training program for tuition, fees, and other reasonable educational expenses, in order to determine the amount of each scholarship award. The DAA/SB enters this information into its computerized data system, along with the projected amount for the monthly stipend, to determine the amount of each scholarship award.

The estimated annual burden is as follows:

Form | Number of respondents | Responses per respondent | Total responses | Hours per response | Total burden hours
Data Collection Worksheet | 650 | 1 | 650 | 0.5 | 325
Total | 650 |  | 650 |  | 325

E-mail comments to paperwork@hrsa.gov or mail the HRSA Reports Clearance Officer, Room 10-33, Parklawn Building, 5600 Fishers Lane, Rockville, MD 20857. Written comments should be received within 60 days of this notice.

Dated: November 4, 2008.
Alexandra Huttinger,
Director, Division of Policy Review and Coordination.

[FR Doc. E8-26816 Filed 11-10-08; 8:45 am]

BILLING CODE 4165-15-P